DEPARTMENT OF STATE

[Public Notice: 11112]

60-Day Notice of Proposed Information Collection: Medical History and Examination

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to July 13, 2020.

ADDRESSES: You may submit comments by any of the following methods:

• Web: Persons with access to the internet may comment on this notice by going to www.Regulations.gov. You can search for the document by entering “Docket Number: DOS-2020-0020” in the Search field. Then click the “Comment Now” button and complete the comment form.

• Email: Fieldke@state.gov.

• Regular Mail: Send written comments to: Medical Director, Office of Medical Clearances, Bureau of Medical Services, 2401 E Street NW, SA-1, Room L-101, Washington, DC 20522-0101.

• Fax: 202-647-0292, Attention: Medical Clearance Director.

You must include the DS form number (if applicable), information collection title, and the OMB control number in any correspondence.

FOR FURTHER INFORMATION CONTACT: Direct requests for additional information regarding the collection listed in this notice, including requests for copies of the proposed collection instrument and supporting documents, should be sent to Karl Field, Director of Medical Clearances at 202-663-1591 or Fieldke@state.gov.

SUPPLEMENTARY INFORMATION:

• Title of Information Collection: Medical History and Examination.

• OMB Control Number: 1405-0068.

• Type of Request: Revision of a Currently Approved Collection.

• Originating Office: Bureau of Medical Services—Medical Clearances Department.

• Form Numbers: DS-1843 and DS-1622.

• Respondents: Contractors and eligible family members.

• Estimated Number of Respondents: 2,039.

• Estimated Number of Responses: 2,039.

• Average Time per Response: 1 hour.

• Total Estimated Burden Time: 2,039 hours.

• Frequency: Upon application for an overseas position and then intermittent, as needed.

• Obligation to Respond: Required to Obtain or Retain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

Forms DS-1843 and DS-1622 collect medical history, lab tests, and physical examinations for all individuals applying for overseas positions, including their eligible family members. Forms DS-1843 and DS-1622 are designed to collect sufficient and current medical information on the individual in order for a medical provider to make a medical clearance determination for initial appointment to an overseas assignment. They are also used to determine whether the individual or eligible family member will have appropriate medical and/or educational resources at a diplomatic mission/host country abroad to maintain the health and safety of the individual or family member. The forms were updated to include questions regarding employment agency information for non-foreign service agencies. Once the collection instruments have been approved, the DS-1843/1622 can be used by respondents employed by both foreign and non-foreign service agencies, rendering the DS-6561 form redundant. As a result, the DS-6561 would be discontinued upon OMB approval of the revised DS-1843 and DS-1622 forms.

Methodology

The respondent will obtain the DS-1843 and DS1622 forms from their human resources representative or download the forms from a Department website. The respondent will complete and submit the forms offline.

Karl Field,
Director of Medical Clearances.

[FR Doc. 2020-10083 Filed 5-11-20; 8:45 am]

BILLING CODE 4710-36-P